DEPARTMENT OF THE INTERIOR

National Park Service

Notice of Inventory Completion: San Diego Archaeological Center, San Diego, CA

AGENCY: National Park Service, Interior.

ACTION: Notice.

Notice is here given in accordance with the Native American Graves Protection and Repatriation Act (NAGPRA), 25 U.S.C. 3003, of the completion of an inventory of human remains and associated funerary objects in the possession of the San Diego Archaeological Center, San Diego, CA. The human remains and associated funerary objects were removed from archeological sites CA-SDI-8629 and CA-SDI-8639H in San Diego County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by San Diego Archaeological Center professional staff in consultation with representatives of the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

In 1981, human remains representing a minimum of one individual were removed from archeological sites CA-SDI-8629 and CA-SDI-8639H near Warner Springs in San Diego County, CA, as part of an archeological excavation performed in compliance with the California Environmental Quality Act (CEQA). On May 10, 2006, the collection was accessioned by the San Diego Archaeological Center, and assessed for objects eligible for repatriation in accordance with NAGPRA. No known individual was identified. The six associated funerary objects are one chipped stone projectile point, four shell beads and one cooking stone.

The sites are located on the U.S. Geographical Survey topographic map of Warner Springs. The Warner Springs Ranch is located in the eastern part of San Diego County. The site falls within traditional Cupeno territory and is considered to be part of the ethnohistoric village of Cupa. The reporting archeologist surmised that artifacts from the test units gave a clear impression that the deposits relate to Late Prehistoric and historic times. Descendants of the Cupeno Nation (Cupa, Kuupangaxwichem) reside on the Pala reservation. The Pala reservation is also home to the Pala Band of Luiseno Mission Indians of the Pala Reservation, California, which is a member of the Luiseno Nation.

The Luiseno Nation is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

Officials of the San Diego Archaeological Center have determined that, pursuant to 25 U.S.C. 3001 (9-10), the human remains described above represent the physical remains of one individual of Native American ancestry. Officials of the San Diego Archaeological Center also have determined that, pursuant to 25 U.S.C. 3001 (3)(A), the six objects described above are reasonably believed to have been placed with or near individual human remains at the time of death or later as part of the death rite or ceremony. Lastly, officials of the San Diego Archaeological Center have determined that, pursuant to 25 U.S.C. 3001 (2), there is a relationship of shared group identity that can be reasonably traced between the Native American human remains and associated funerary objects and the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

Representatives of any other Indian tribe that believes itself to be culturally affiliated with the human remains and associated funerary objects should contact Cindy Stankowski, San Diego Archaeological Center, 16666 San Pasqual Valley Road, Escondido, CA 92027-7001, telephone (760) 291-0370, before November 10, 2008. Repatriation of the human remains and associated funerary objects to the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group, may proceed after that date if no additional claimants come forward.

The San Diego Archaeological Center is responsible for notifying the Cupeno (Cupa, Kuupangaxwichem) Nation of the Pala Reservation, California; La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California; and San Luis Rey Band of Mission Indians, a non-federally recognized Indian group, that this notice has been published.

Dated: September 12, 2008
Sherry Hutt,
Manager, National NAGPRA Program.

[FR Doc. E8-23964 Filed 10-8-08; 8:45 am]

BILLING CODE 4312-50-S